DEPARTMENT OF DEFENSE

GENERAL SERVICES ADMINISTRATION

NATIONAL AERONAUTICS AND SPACE ADMINISTRATION

[OMB Control No. 9000-0024; Docket No. 2022-0053; Sequence No. 22]

Submission for OMB Review; Buy American, Trade Agreements, and Duty-Free Entry

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve a revision of a previously approved information collection requirement regarding Buy American, associated with implementation of Federal Acquisition Regulation (FAR) rule 2021-008, Amendments to the FAR Buy American Act Requirements.

DATES: Submit comments on or before December 21, 2022.

ADDRESSES: Written comments and recommendations for this information collection should be sent within 30 days of publication of this notice to www.reginfo.gov/public/do/PRAMain. Find this particular information collection by selecting “Currently under Review—Open for Public Comments” or by using the search function.

Additionally, submit a copy to GSA through https://www.regulations.gov and follow the instructions on the site. This website provides the ability to type short comments directly into the comment field or attach a file for lengthier comments.

Instructions: All items submitted must cite OMB Control No. 9000-0024, Buy American, Trade Agreements, and Duty-Free Entry. Comments received generally will be posted without change to https://www.regulations.gov, including any personal and/or business confidential information provided. To confirm receipt of your comment(s), please check www.regulations.gov, approximately two-to-three days after submission to verify posting. If there are difficulties submitting comments, contact the GSA Regulatory Secretariat Division at 202-501-4755 or GSARegSec@gsa.gov.

FOR FURTHER INFORMATION CONTACT: Ms. Mahruba Uddowla, Procurement Analyst, at telephone 703-605-2868, or mahruba.uddowla@gsa.gov.

SUPPLEMENTARY INFORMATION:

A. OMB Control Number, Title, and Any Associated Form(s)

9000-0024, Buy American, Trade Agreements, and Duty-Free Entry.

B. Needs and Uses

This clearance covers the information that an offeror must submit in response to the requirements of the provisions and clauses in Federal Acquisition Regulation (FAR) part 25 that relate to the following:

* The Buy American statute (41 U.S.C. chapter 83) and Executive Orders (E.O.s) 10582 and 14005.

* The Trade Agreements Act (19 U.S.C. 2501-2515), including the World Trade Organization Government Procurement Agreement and various free trade agreements.

* The American Recovery and Reinvestment Act of 2009 (Pub. L. 111-5) (Recovery Act).

* Subchapters VIII and X of Chapter 98 of the Harmonized Tariff Schedule of the United States (19 U.S.C. 1202).

a. 52.225-2, Buy American Certificate. This provision requires the offeror to identify in its proposal supplies that do not meet the definition of domestic end product and whether those supplies exceed 55% domestic content. This provision also requires offerors to identify in its proposal domestic end products that contain a critical component.

b. 52.225-4, Buy American—Free Trade Agreements—Israeli Trade Act Certificate. This provision requires a separate list of foreign products that are eligible under a trade agreement, and a list of all other foreign end products and whether those supplies exceed 55% domestic content. This provision also requires offerors to identify in its proposal domestic end products that contain a critical component.

c. 52.225-6, Trade Agreements Certificate. This provision requires the offeror to certify that all end products are either U.S.-made or designated country end products, except as listed in paragraph (b) of the provision. Offerors are not allowed to provide other than a U.S.-made or designated country end product, unless the requirement is waived.

d. 52.225-8, Duty-Free Entry. This clause requires contractors to notify the contracting officer when they purchase foreign supplies, in order to determine whether the supplies should be duty-free. The notice shall identify the foreign supplies, estimate the amount of duty, and the country of origin. The contractor is not required to identify foreign supplies that are identical in nature to items purchased by the contractor or any subcontractor in connection with its commercial business, and segregation of these supplies to ensure use only on Government contracts containing duty-free entry provisions is not economical or feasible. In addition, all shipping documents and containers must specify Start Printed Page 8915certain information to assure the duty-free entry of the supplies.

e. Construction provisions and clauses:

• 52.225-9, Buy American—Construction Materials

• 52.225-10, Notice of Buy American Requirement—Construction Materials

• 52.225-11, Buy American—Construction Materials Under Trade Agreements

• 52.225-12, Notice of Buy American Requirement—Construction Materials under Trade Agreements

• 52.225-21, Required Use of American Iron, Steel and Manufactured Goods—Buy American—Construction Materials

• 52.225-23, Required Use of American Iron, Steel and Manufactured Goods—Buy American—Construction Materials Under Trade Agreements

The listed provisions and clauses provide that an offeror or contractor requesting to use foreign construction material due to unreasonable cost of domestic construction material shall provide adequate information to permit evaluation of the request.

C. Annual Burden

Respondents: 16,478.

Total Annual Responses: 69,165.

Total Burden Hours: 43,469.

D. Public Comment

A 60-day notice was published within the proposed FAR rule (2021-008, Amendments to the FAR Buy American Act Requirements) in the Federal Register at 86 FR 40980, on July 30, 2021. The proposed FAR rule included information collection requirements that were additional to the paperwork burden previously approved under OMB Control Number 9000-0024 as well as a new information collection requirement that would have required clearance under a new OMB Control Number (i.e., “Domestic Content Reporting Requirement”). However, as explained in the published final FAR rule at 87 FR 12780, on March 7, 2022, the FAR will not be implementing the information collection for domestic content reporting until a future FAR rule but the final rule did proceed with the information collection requirements that are additional to the paperwork burden previously approved under OMB Control Number 9000-0024. As such, the Regulatory Secretariat Division is proceeding with seeking OMB approval of the revised information collection requirements under OMB Control Number 9000-0024 but has withdrawn its request for approval of a new information collection requirement concerning “Domestic Content Reporting Requirement.”

No comments to the 60-day notice specifically cited this OMB Control Number but two respondents did comment on the requirement for offerors to identify whether any of their end products/construction material contain critical components.

a. One respondent commented that the establishment of a separate representation process can create administrative burden and cost for vendors, as associated compliance mechanisms will be required to assure the accuracy of such separate representations. The respondent did not appear to be aware that the FAR Council acknowledged the additional burden associated with this new representation and sought an increase to the estimated burdens associated through this clearance. Since no feedback was provided on the FAR Council's proposed calculations for the associated burden, no revisions are being made to the estimates previously provided.

b. One respondent commented that contractors are unable to comply with the “reporting requirements.” Since no feedback was provided on the FAR Council's proposed calculations for the associated burden, no revisions are being made to the estimates previously provided.

Obtaining Copies: Requesters may obtain a copy of the information collection documents from the GSA Regulatory Secretariat Division, by calling 202-501-4755 or emailing GSARegSec@gsa.gov. Please cite OMB Control No. 9000-0024, Buy American, Trade Agreements, and Duty-Free Entry.

Janet Fry,
Director, Federal Acquisition Policy Division, Office of Governmentwide Acquisition Policy, Office of Acquisition Policy, Office of Governmentwide Policy.

[FR Doc. 2022-25236 Filed 11-18-22; 8:45 am]

BILLING CODE 6820-EP-P